DEPARTMENT OF ENERGY

48 CFR Parts 925, 952 and 970

RIN 1991-AB99

Acquisition Regulations: Export Control

AGENCY: Department of Energy.

ACTION: Notice of reopening of public comment period.

SUMMARY: On June 12, 2013, the Department of Energy (DOE) published a proposed rulemaking in the Federal Register (78 FR 35195) to amend the Department of Energy Acquisition Regulation (DEAR) to add export control requirements applicable to the performance of DOE contracts. The public comment period ended on July 12, 2013. The reopening of the public comment period ends on August 23, 2013.

DATES: Written comments must be received on or before close of business August 23, 2013.

ADDRESSES: You may submit comments, identified by “DEAR: Export Control and RIN 1991-AB99,” by any of the following methods:

• Federal eRulemaking Portal: http://www.regulations.gov. Follow the instructions for submitting comments.

• Email to: DEARrulemaking@hq.doe.gov. Include DEAR: Export Control and RIN 1991-AB99 in the subject line of the message.

• Mail to: U.S. Department of Energy, Office of Acquisition and Project Management, MA-611, 1000 Independence Avenue SW., Washington, DC 20585. Comments by email are encouraged.

FOR FURTHER INFORMATION CONTACT: Lawrence Butler, (202) 287-1945 or lawrence.butler@hq.doe.gov.

Issued in Washington, DC, on July 19, 2013.
David Boyd,
Deputy Director, Office of Acquisition and Project Management, Department of Energy.

[FR Doc. 2013-17975 Filed 7-25-13; 8:45 am]

BILLING CODE 6450-01-P